DELAWARE RIVER BASIN COMMISSION

Notice of Commission Meeting and Public Hearing

Notice is hereby given that the Delaware River Basin Commission will hold an informal conference followed by a public hearing on Wednesday, December 9, 2009. The hearing will be part of the Commission's regular business meeting. The conference session and business meeting both are open to the public and will be held at the Commission's office building, located at 25 State Police Drive, West Trenton, New Jersey.

The conference among the commissioners and staff will begin at 10:30 a.m. and will consist of a presentation by a spokesperson for New York City regarding temporary closure of the Delaware Aqueduct; a report by the chair of the Toxics Advisory Committee; a report by the chair of the Water Quality Advisory Committee; and a presentation on the Pocono Creek Watershed Sustainability Study.

The subjects of the public hearing to be held during the 1 p.m. business meeting include the dockets listed below:

1. Melody Lakes, D-1980-079-3. An application for renewal of the applicant's 0.072 mgd WWTP discharge. The project WWTP will continue to discharge to Tohickon Creek, a tributary of the Delaware River at River Mile 157.00—26.16 (Delaware River—Tohickon Creek) in Richland Township, Bucks County, Pennsylvania. The project WWTP is located in the drainage area of the section of the non-tidal Delaware River known as the Lower Delaware, which is classified as Special Protection Waters.

2. Schering Corporation, D-1986-004-2. An application to modify Schering Corporation's industrial waste treatment plant (IWTP) docket to approve an existing discharge of 0.04 mgd of treated industrial wastewater from Outfall No. 001A (approved by Docket D-1986-4) and a 0.02 mgd discharge of cooling tower blowdown and HVAC condensate from Outfall No. DSN002A. Outfalls Nos. 001A and DSN002A will continue to discharge to an Unnamed Tributary of the Paulins Kill at River Mile 207.0—33.8—0.3 (Delaware River—Paulins Kill—unnamed tributary), in Lafayette Township, Sussex County, New Jersey. The project IWTP is located in the drainage area of the section of the non-tidal Delaware River known as the Lower Delaware, which is classified as Special Protection Waters.

3. Lower Perkiomen Valley Regional Sewer Authority, D-2001-042 CP-3. An application for approval to renew a discharge of up to 14.25 mgd from the existing Oaks Wastewater Treatment Plant (WWTP). The Oaks WWTP discharges to the Schuylkill River at River Mile 92.47—32.35 (Delaware River—Schuylkill River), in Upper Providence Township, Montgomery County, Pennsylvania.

4. Delaware County Solid Waste Authority, D-89-18 CP-4. An application for approval of the modification and expansion from 0.08 mgd to 0.115 mgd of the Delaware County Solid Waste Authority's (DCSWA) Rolling Hills leachate treatment plant (LTP). Modifications include the addition of a clarifier, new ozone system, additional blowers, new pumps, and new boilers to ensure the treatment process complies with permit limitations such as color, ammonia, and TDS. The LTP treats leachate from the Rolling Hills landfill and discharges to the Manatawny Creek at River Mile 92.47—54.15—12.2 (Delaware River—Schuylkill River—Manatawny Creek) through a diffused outfall. The project LTP is located in Earl Township, Berks County, Pennsylvania.

5. Gloucester County Utilities Authority D-1990-074 CP-3. An application for the continued approval of a 27 mgd discharge of treated wastewater from the Gloucester County Utilities Authority (GCUA) wastewater treatment plant (WWTP). On May 6, 2009, the DRBC approved Docket No. D-2008-27-1 for the West Deptford Energy Station (WDES), allowing WDES to withdraw up to 7.5 mgd of GCUA's effluent for cooling water purposes and to discharge approximately 2.0 mgd of contact cooling water (CCW) back to GCUA's effluent stream. As a result of the WDES approval, a TDS and thermal mixing zone are required for existing GCUA Outfall No. DSN004A at the Delaware River. This application includes a thermal mixing zone of 164 feet and a TDS mixing zone of 105 feet for Outfall No. DSN004A. The project WWTP is located in Water Quality Zone 4 at River Mile 89.7 (Delaware River), in West Deptford Township, Gloucester County, New Jersey.

6. Aqua Pennsylvania—Chalfont System, D-1993-083 CP-2. An application for approval of a groundwater withdrawal project for which the Commission's approval has expired, to continue a withdrawal of 39 mg/30 days to supply the applicant's public water supply system from five existing wells. The project is located in the Stockton Formation in the Neshaminy, Pine Run and Cooks Run watersheds in Chalfont and New Britain boroughs, Montgomery County, Pennsylvania within the Southeastern Pennsylvania Ground Water Protected Area (GWPA). The project wells are located in three sub-basins of the Neshaminy Creek Basin, as defined by the GWPA Regulations: North Branch Neshaminy Creek, Pine Run Basin and Doylestown Sub-basin Neshaminy Creek.

7. The Upper Hanover Authority and The Red Hill Water Authority, D-2002-10 CP-3. An application for a groundwater withdrawal project to increase the withdrawal from 43.113 mg/30 days to 56.88 mg/30 days from six existing wells and one existing spring water withdrawal (Kemmerer Spring) to supply the applicant's public water supply. The 13.767 mg/30 days increase would be obtained from existing Wells Nos. TUHA-1 and TUHA-2. The project is located in the Brunswick, Leithsville and Hardyston Formations. The increased allocation is requested in order to meet 10-year projected increases in service area demand. The project is located in the Perkiomen Creek and Macoby Creek watersheds in Upper Hanover, Hereford and Upper Milford Townships, Montgomery, Berks and Lehigh Counties, Pennsylvania and is located in the Southeastern Pennsylvania Ground Water Protected Area (GWPA). The project wells are in the Upper Reach Perkiomen Creek and Perkiomen-Macoby Run sub-basins as defined by the GWPA Regulations.

8. Yukiguni Maitake Manufacturing Corporation of America, D-2003-026-1. An application for approval of a groundwater withdrawal project to supply up to 13.14 mg/30 days of water to the applicant's mushroom facility from new Well No. 001. The project is located in the Lower Devonian and Sulurian Formations in the Basher Kill Watershed in Mamakating Township, Sullivan County, New York. The site is located within the drainage area to the section of the non-tidal Delaware River known as the Upper Delaware, which is designated as Special Protection Waters.

9. Inversand Company, D-2007-015-1. An application for approval of a groundwater withdrawal project to supply up to 15.5 mg/30 days of water to the applicant's glauconite mining operations from new Wells Nos. 1 and 2 and a mining pit. The project is located in the Mt. Laurel-Wenonah and Potomac-Raritan-Magothy formations in the Mantua Creek Watershed in Mantua Township, Gloucester County, New Jersey.

10. Yukiguni Maitake Manufacturing Corporation of America, D-2008-035-1. An application for approval to construct wastewater treatment facilities for the Yukiguni Maitake Mushroom Growing Facility and to construct three land discharges from a pilot-scale growing facility (1-story, 44,100 square foot building) on the site. Two of the proposed discharges are to a three-bay infiltration basin system, whereas the third is to an on-site septic tank discharging to a leach field. The three-bay infiltration basin system will accept up to 55,000 gpd, 51,000 gpd of which will be from a geothermal system (Outfall No. 005) and the remaining 4,000 gpd from process water (Outfall No. 002). The on-site septic tank and leach field are proposed to receive up to 1,000 gpd of sanitary wastewater (Outfall No. 001). The project is located in the Basher Kill Watershed in Mamakating Township, Sullivan County, New York, within the drainage area to the section of the non-tidal Delaware River known as the Upper Delaware, which is designated as Special Protection Waters.

11. UMH Properties Inc., D-2009-021-1. An application for approval of the Highland Estates Mobile Home Park WWTP. The existing WWTP discharges treated sewage effluent at an average annual daily flow rate of 0.08325 mgd to an unnamed tributary of Mill Creek, which is a tributary of the Schuylkill River. The facility is located in Greenwich Township, Berks County, Pennsylvania.

12. White Manor Country Club, D-2009-022-1. An application for approval of a new ground and surface water withdrawal project to supply up to 7.02 mg/30 days of water to the applicant's irrigation process from existing Well No. 1 and existing Intakes 1 and 2. The project well and intakes are located in the Felsic Gneiss, granulite facies in the Crum Creek Watershed in Willistown Township, Chester County, Pennsylvania and is located in the Southeastern Pennsylvania Ground Water Protected Area.

13. Camp Lohikan, D-2009-024-1. An application for approval of the proposed Camp Lohikan Spray Irrigation Sewage Disposal System. The proposed WWTP is comprised of an aerated lagoon system designed to provide secondary treatment and disinfection, followed by land application via spray irrigation. The hydraulic design capacity of the facility is 0.03 million gallons per day (mgd). The proposed project is located in the Equinunk Creek Watershed in Buckingham Township, Wayne County, Pennsylvania, within the drainage area to the section of the non-tidal Delaware River known as the Upper Delaware, which is classified as Special Protection Waters.

14. Lehigh Carbon Community College, D-2009-025 CP-1. An application for approval to install two new final clarifiers and aerobic digesters at the existing 36,225 gallons per day (gpd) WWTP of the Lehigh Carbon Community College. No change in hydraulic design is proposed. The project is located in North Whitehall Township, Lehigh County, Pennsylvania, within the drainage area of the section of the non-tidal Delaware River known as the Lower Delaware, which is classified as Special Protection Waters. The WWTP discharges to an unnamed tributary of Jordan Creek, a High Quality-Cold Water Fishery, Migrating Fishery (HQ-CWF, MF) at River Mile 183.66—16.25—13.79—1.26 (Delaware River—Lehigh River—Jordan Creek—Unnamed Tributary).

In addition to the standard business meeting items, including adoption of the Minutes of the Commission's previous (October 22, 2009) business meeting; announcements of upcoming advisory committee meetings and events of interest; a report on hydrologic conditions; a report by the Executive Director; and a report by the Commission's General Counsel, the business meeting also will include public hearings and consideration by the Commission of resolutions: (a) Extending Docket No. D-69-210 CP Final (Revision 12) for the Limerick Generating Station Water Supply Modification Demonstration Project and Wadesville Mine Pool Withdrawal and Streamflow Augmentation Demonstration Project for a period of one year or until the Commission approves a revised docket, whichever occurs first; (b) authorizing the Executive Director to modify Docket D-71-86-2 for DuPont's Edge Moor Titanium Dioxide Facility Industrial Wastewater Discharge to provide additional time and to establish an approved schedule for installation of a diffuser by January 31, 2010; (c) approving the Commission's FY 2010-2015 Water Resources Program; (d) approving guidance consisting of a DRBC “penalty matrix” to assist regulated entities and DRBC staff in reaching negotiated settlements for suspected violations of DRBC regulations; (e) authorizing and directing the Executive Director to enter into a revised administrative agreement with the State of New Jersey for the submission and review of projects under Section 3.8 of the Compact; and (f) approving the DRBC fiscal year 2011 operating and capital budgets. An opportunity for public dialogue will be provided at the end of the meeting.

Draft dockets scheduled for public hearing on December 9, 2009 can be accessed through the Notice of Commission Meeting and Public Hearing on the Commission's Web site, drbc.net, ten days prior to the meeting date. Additional public records relating to the dockets may be examined at the Commission's offices. Please contact William Muszynski at 609-883-9500, extension 221, with any docket-related questions.

Note that conference items are subject to change and items scheduled for hearing are occasionally postponed to allow more time for the Commission to consider them. Please check the Commission's website, drbc.net, closer to the meeting for changes that may be made after the deadline for filing this notice.

Individuals in need of an accommodation as provided for in the Americans with Disabilities Act who wish to attend the informational meeting, conference session or hearings should contact the commission secretary directly at 609-883-9500 ext. 203 or through the Telecommunications Relay Services (TRS) at 711, to discuss how the Commission can accommodate your needs.

Dated: November 17, 2009.
Pamela M. Bush,
Commission Secretary.

[FR Doc. E9-28238 Filed 11-24-09; 8:45 am]

BILLING CODE 6360-01-P